DEPARTMENT OF TRANSPORTATION

National Highway Traffic Safety Administration

[NHTSA-2017-0001]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Comments must be received on or before June 20, 2017.

ADDRESSES: You may submit comments identified by DOT Docket ID Number NHTSA-2017-0001 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1-202-493-2251.

Instructions: Each submission must include the Agency name and the Docket number for this Notice. Note that all comments received will be posted without change to http://www.regulations.gov including any personal information provided.

FOR FURTHER INFORMATION CONTACT: Mary T. Byrd, Contracting Officer's Representative, Office of Behavioral Safety Research (NPD-320), National Highway Traffic Safety Administration, 1200 New Jersey Avenue SE., W46-466, Washington, DC 20590. Mary T. Byrd's phone number is 202-366-5595, and her email address is Mary.Byrd@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: Psychological Constructs Related to Seat Belt Use.

Type of Request: New information collection requirement.

OMB Clearance Number: None.

Form Number: NHTSA Forms 1365 and 1366.

Requested Expiration Date of Approval: 3 years from date of approval.

Summary of the Collection of Information: The National Highway Traffic Safety Administration (NHTSA) proposes to conduct a nationally representative web-based survey using the Growth for Knowledge (GfK) KnowledgePanel, a probability-based web panel that has been in existence since 1999, to identify psychological constructs and psychosocial factors associated with the non-use and part-time use of seat belts. This research would give the traffic safety community greater insight regarding characteristics of seat belt nonusers to inform development of countermeasures tailored to more effectively encourage seat belt use among this group. The survey would measure self-reported seat belt use, psychosocial factors, and psychological constructs to understand how these factors are related.

A maximum of 20,394 KnowledgePanel panelists would be contacted via email to obtain 6,000 completed surveys. Of the 20,394 panelists contacted, it is estimated that approximately 50% or 10,197 potential respondents would log into the web portal to complete the screener instrument. It is estimated that 95% of those who complete the one minute screener (about 9,687) would be eligible for participation in the survey. Eligible panelists include U.S. residents aged 16 years or older who have driven or ridden in a motor vehicle (defined as a “car, van, truck, taxi or ride-sharing service”) within the past year. Eligible participants would be sampled to obtain a sufficient number who report not wearing seat belts all of the time. Of the 6,316 sampled eligible, it is estimated that 95% or 6,000 would complete the full 19 minute survey. The total estimated burden for this data collection is 2,070 hours.

Description of the Need for the Information and Proposed Use of the Information—NHTSA was established by the Highway Safety Act of l970 (23 U.S.C. 101) to carry out a Congressional mandate to reduce the mounting number of deaths, injuries, and economic losses resulting from motor vehicle crashes on the Nation's highways. As part of this statutory mandate, NHTSA is authorized to conduct research as a foundation for the development of motor vehicle standards and traffic safety programs.

Seat belts reduce the risk of death by 45% among drivers and front-seat passenger car occupants and by 60% among drivers and front-seat light truck occupants across all crash types—yet, not everyone uses a seat belt on every trip. According to the latest National Occupant Protection Use Survey (NOPUS), seat belt use in the United States was 90% in 2016. Although a high percentage of people were observed wearing seat belts through NOPUS, among passenger vehicle occupants killed in motor vehicle crashes in 2015, only 51% were wearing a seat belt. Thus, there is still room to save lives by getting more people to wear seat belts. In order to develop programs with potential to reach those who do not wear seat belts, we need to know as much as we can about this group. Currently, we know a lot about the demographic correlates of seat belt use (e.g., age, gender), but we do not know much about other individual-level contributors to nonuse. The purpose of this research is to identify psychological constructs and psychosocial factors associated with the non-use and part-time use of seat belts to inform the development of countermeasures.

Description of the Likely Respondents (Including Estimated Number, and Proposed Frequency of Response to the Collection of Information)—Under this proposed data collection, the potential respondent universe would be U.S. residents aged 16 years or older who have driven or ridden in a motor vehicle within the past year. Survey participants would be recruited from the KnowledgePanel using email invitations to obtain 6,000 completed surveys. Each participant would complete a single survey; there would be no request for additional follow-up information or response.

Throughout the project, the privacy of all participants would be protected. Access to the survey would be controlled using a password-protected email account and web portal. Surveys would be self-administered and only accessible for a designated period. These measures protect respondent responses from being compromised.

Personally-identifiable information, such as the postal address of sample members, would be kept separate from the data collected and would be stored in restricted folders on secure password protected servers that are only accessible to study staff who need to access such information. In addition, all data collected from respondents would be reported in aggregate, and identifying information would not be used in any reports resulting from this data collection effort. Rigorous de-identification procedures would be used during summary and feedback stages to prevent respondents from being identified through reconstructive means.

Estimate of the Total Annual Reporting and Record Keeping Burden Resulting from the Collection of Information—NHTSA estimates that the total respondent burden for this data collection would be 2,070 hours. NHTSA would contact 20,394 KnowledgePanel panelists via an invitation email to obtain 6,000 completed surveys. Of the 20,394 panelists contacted, it is estimated that approximately 50% or 10,197 potential respondents would log into the web portal to complete the screener instrument. The estimated burden for the screener is 170 hours (10,197 * 1 minute = 10,197 minutes/60 = 170 hours). Based upon the screening questions as well as the sampling plan, it is estimated 510 respondents would not be eligible and that 3,371 eligible respondents would not be sampled (selected to complete the full survey). Based upon a 95% completion rate among the 6,316 sampled respondents, it is anticipated that 6,000 respondents would complete the full survey. The estimated burden for the full survey, which would average 19 minutes in length, is 1,900 hours (6,000 * 19 minutes = 114,000 minutes/60 = 1,900 hours). The participants would not incur any reporting cost from the information collection. The participants would also not incur any record keeping burden or record keeping cost from the information collection. The overall estimated burden for this data collection is 170 hours for the screener and 1,900 hours for the full survey for a total of 2,070 hours.

Authority: 44 U.S.C. Section 3506(c)(2)(A).

Issued in Washington, DC, on April 18, 2017.
Jeff Michael,
Associate Administrator, Research and Program Development.

[FR Doc. 2017-08075 Filed 4-20-17; 8:45 am]

BILLING CODE 4910-59-P